DEPARTMENT OF HEALTH AND HUMAN SERVICES

Centers for Disease Control and Prevention

[CDC-2013-0025; Docket Number NIOSH-266]

Issuance of Final Publication

AGENCY: National Institute for Occupational Safety and Health (NIOSH) of the Centers for Disease Control and Prevention (CDC), Department of Health and Human Services (HHS).

ACTION: Notice of issuance of final publication.

SUMMARY: The National Institute for Occupational Safety and Health (NIOSH) of the Centers for Disease Control and Prevention (CDC), announces the availability of the following publication: NIOSH Criteria for a Recommended Standard: Occupational Exposure to Heat and Hot Environments [2016-106].

ADDRESSES: This document may be obtained at the following link: http://www.cdc.gov/niosh/docs/2016-106/.

FOR FURTHER INFORMATION CONTACT: Brenda Jacklitsch, NIOSH Education and Information Division, 1090 Tusculum Ave, Mail Stop C-32, Cincinnati, OH 45226, email address: gwe6@cdc.gov.

Dated: February 19, 2016.
John Howard,
Director, National Institute for Occupational Safety and Health, Centers for Disease Control and Prevention.

[FR Doc. 2016-04297 Filed 2-26-16; 8:45 am]

BILLING CODE 4163-19-P